INTER-AMERICAN FOUNDATION

Sunshine Act Meeting

Time and Date: April 23, 2001, 2:00-5:30 p.m.

Place: Hotel Camino Real Oaxaca, Calle 5 de Mayo 300 N, Oaxaca, Oaxaca, Mexico.

Status: Open session.

Matters to be Considered:

• Approval of the Minutes of the January 30, 2001, Meeting of the Board of Directors

• Review of the Foundation's Grant Portfolio in Mexico

• President's Report

• Congressional Appropriations Update

• Advisory Council

• Country Priority Strategy

Contact Person for More Information: Carolyn Karr, General Counsel, (703) 306-4350.

Dated: April 4, 2001.
Carolyn Karr,
General Counsel.

[FR Doc. 01-8758 Filed 4-5-01; 11:24 am]

BILLING CODE 7025-01-U